DEPARTMENT OF TRANSPORTATION

Surface Transportation Board

[Docket No. FD 35758]

Indiana Eastern Railroad, LLC, d/b/a Ohio South Central Railroad—Change in Operators Exemption—Rail Lines of the City of Jackson, Ohio, in Jackson, Vinton, and Ross Counties, Ohio

Indiana Eastern Railroad, LLC, d/b/a Ohio South Central Railroad (OSCR), a Class III rail carrier, has filed a verified notice of exemption under 49 CFR 1150.41 to change operators from US Rail Corporation to OSCR on the following rail lines located in Ohio and owned by the City of Jackson, Ohio (the City): (1) From milepost 91.6 at RA Junction near Richmond Dale, Ross County, to milepost 95.5 at West Junction, Ross County; (2) from milepost 112.3 at West Junction to milepost 127.5 near Hamden, Vinton County; (3) from milepost 127.5 near Hamden to milepost 136.8 near Red Diamond, Vinton County; (4) from milepost 0.0 at Hamden to milepost 31.0 near Firebrick, Jackson County; (5) from milepost 0.0 in the City, Link Township, to milepost 4.5 in Liberty Township.¹ The change in operators is being accomplished through OSCR's lease of the lines from the City. OSCR states that it will operate the lines. This change in operators is exempt under 49 CFR 1150.41(c).²

¹ OSCR states that incidental trackage rights will be granted over a rail line of CSX Transportation, Inc. (CSX) between milepost 91.6 at RA Junction and milepost 85.7 near Vauces, Ohio, solely for purposes of interchange between OSCR and CSX.

² To qualify for a change of operators exemption, an applicant must give notice to shippers on the line. See 49 CFR 1150.42(b). In a letter filed August 23, 2013, OSCR certified to the Board that it had provided notice to the shippers on the lines.

Based on projected revenues for the line, OSCR expects to remain a Class III rail carrier after consummation of the proposed transaction. OSCR certifies that its projected annual revenues as a result of this transaction will not result in the creation of a Class II or Class I rail carrier.

OSCR states that the proposed transaction will be consummated no sooner than September 20, 2013 (at least 30 days after the notice of exemption was filed).

If the verified notice contains false or misleading information, the exemption is void ab initio. Petitions to revoke the exemption under 49 U.S.C. 10502(d) may be filed at any time. The filing of a petition to revoke will not automatically stay the effectiveness of the exemption. Petitions for stay must be filed no later than September 13, 2013 (at least seven days before the exemption becomes effective).

An original and 10 copies of all pleadings, referring to Docket No. FD 35758, must be filed with the Surface Transportation Board, 395 E Street SW., Washington, DC 20423-0001. In addition, one copy of each pleading must be served on Thomas F. McFarland, Thomas F. McFarland, P.C., 208 South LaSalle Street, Suite 1890, Chicago, IL 60604-1112.

Board decisions and notices are available on our Web site at www.stb.dot.gov.

Decided: September 3, 2013.
By the Board, Rachel D. Campbell, Director, Office of Proceedings.
Raina S. White,
Clearance Clerk.

[FR Doc. 2013-21745 Filed 9-5-13; 8:45 am]

BILLING CODE 4915-01-P